DEPARTMENT OF ENERGY

Federal Energy Regulatory Commission

[Project No. 14513-003]

Idaho Irrigation District; New Sweden Irrigation District; Notice of Availability of Final Environmental Assessment

In accordance with the National Environmental Policy Act of 1969 and the Federal Energy Regulatory Commission's (Commission) regulations, 18 CFR part 380, the Office of Energy Projects has reviewed the application for original license for the County Line Road Hydroelectric Project, located on the Snake River in Bonneville and Jefferson Counties, Idaho, and has prepared a Final Environmental Assessment (FEA) for the project. No federal land would be occupied by project works or located within the proposed project boundary.

The FEA contains staff's analysis of the potential environmental impacts of the project and concludes that licensing the project, with appropriate environmental protective measures, would not constitute a major federal action that would significantly affect the quality of the human environment.

The number of pages in the FEA exceeds the page limits set forth in the Council on Environmental Quality's July 16, 2020 final rule, Update to the Regulations Implementing the Procedural Provisions of the National Environmental Policy Act (85 FR 43304). Noting the scope and complexity of the proposed action and action alternatives, the Director of the Office of Energy Projects, as our senior agency official, has authorized this page limit exceedance for the FEA.

The Commission provides all interested persons with an opportunity to view and/or print the FEA via the internet through the Commission's Home Page (http://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://ferconline.ferc.gov/eSubscription.aspx to be notified via email of new filings and issuances related to this or other pending projects. For assistance, contact FERC Online Support.

Any questions regarding this notice may be directed to Matt Cutlip at (503) 552-2762.

Dated: February 10, 2023.
Debbie-Anne A. Reese,
Deputy Secretary.

[FR Doc. 2023-03303 Filed 2-15-23; 8:45 am]

BILLING CODE 6717-01-P